DEPARTMENT OF THE INTERIOR

National Park Service

[NPS-AKRO-ANIA-CAKR-LACL-KOVA-WRST-GAAR-41675; PPAKAKROR4; PPMPRLE1Y.LS0000]

National Park Service Alaska Region Subsistence Resource Commission Program; Notice of Special Public Meetings

AGENCY: National Park Service, Interior.

ACTION: Meeting notice.

SUMMARY: The National Park Service (NPS) is hereby giving notice that the Aniakchak National Monument Subsistence Resource Commission (SRC), the Cape Krusenstern National Monument SRC, the Lake Clark National Park SRC, the Kobuk Valley National Park SRC, the Wrangell-St. Elias National Park SRC, and the Gates of the Arctic National Park SRC will meet for the purpose of commenting on the limited review of the Federal Subsistence Management Program the Secretary of the Interior and the Secretary of Agriculture (Secretaries) are undertaking, as indicated below. The goal of the limited review is to ensure the Federal Subsistence Management Program is meeting the needs of subsistence users and the Secretaries' obligations under title VIII, section 808 of the Alaska National Interest Lands Conservation Act (16 U.S.C. 3118). The Secretaries will benefit from the SRCs review. These special meetings ensure the SRC will have the opportunity to comment during the 60-day public scoping period that began on December 15, 2025, with the publication of a notice in the Federal Register.

ADDRESSES: The Aniakchak National Monument SRC will meet via videoconference from 1:00 p.m. until business is completed on Thursday, January 29, 2026. Participants must call the NPS office at (907) 246-2121 prior to the meeting to receive teleconference/videoconference passcode information. For more detailed information regarding these meetings, or if you are interested in applying for SRC membership, contact Designated Federal Officer Mark Sturm, Superintendent, at (907) 246-2120 or via email at mark_sturm@nps.gov, or Mallory Zharoff, Subsistence Coordinator, at (907) 246-2121 or via email at mallory_zharoff@nps.gov, or Eva Patton, Federal Advisory Committee Group Federal Officer, at (907) 644-3601 or via email at eva_patton@nps.gov.

The Cape Krusenstern National Monument SRC will meet via teleconference from 1:30 p.m. until business is completed on Friday, January 30, 2026. Participants must call the NPS office at (907) 442-8342 prior to the meeting to receive teleconference/videoconference passcode information. For more detailed information regarding this meeting or if you are interested in applying for SRC membership, contact Designated Federal Officer Jeanette Koelsch, Acting Superintendent, at (907) 759-8001 or via email at jeanette_koelsch@nps.gov, or Emily Creek, Subsistence Coordinator, at (907) 442-8342 or via email at emily_creek@nps.gov, or Eva Patton, Federal Advisory Committee Group Federal Officer, at (907) 644-3601 or via email at eva_patton@nps.gov.

The Lake Clark National Park SRC will meet via teleconference from 1:00 p.m. until business is completed on Saturday, February 7, 2026. Participants must call the NPS office at (907) 644-3648 prior to the meeting to receive teleconference/videoconference passcode information. For more detailed information regarding this meeting or if you are interested in applying for SRC membership, contact Designated Federal Officer Grant Hilderbrand, Superintendent, at (907) 644-3627 or via email at grant_hilderbrand@nps.gov, or Liza Rupp, Subsistence Manager, at (907) 644-3648 or via email at elizabeth_rupp@nps.gov, or Eva Patton, Federal Advisory Committee Group Federal Officer, at (907) 644-3601 or via email at eva_patton@nps.gov.

The Kobuk Valley National Park SRC will meet via teleconference from 1:30 p.m. until business is completed on Thursday, January 29, 2026. Participants must call the NPS office at (907) 442-8342 prior to the meeting to receive teleconference/videoconference passcode information. For more detailed information regarding this meeting or if you are interested in applying for SRC membership, contact Designated Federal Officer Jeanette Koelsch, Acting Superintendent, at (907) 759-8001 or via email at jeanette_koelsch@nps.gov, or Emily Creek, Subsistence Coordinator, at (907) 442-8342 or via email at emily_creek@nps.gov, or Eva Patton, Federal Advisory Committee Group Federal Officer, at (907) 644-3601 or via email at eva_patton@nps.gov.

The Wrangell-St. Elias National Park SRC will meet via teleconference from 3:00 p.m. until business is completed on Tuesday, February 3, 2026. Participants must contact Subsistence Coordinator, Amber Cohen, at (907) 822-7284 or wrst_subsistence@nps.gov prior to the meeting to receive teleconference/videoconference passcode information. For more detailed information regarding these meetings, or if you are interested in applying for SRC membership, contact Designated Federal Officer Joshua Scott, Acting Superintendent, at (907) 822-7243 or via email at joshua_scott@nps.gov, or Amber Cohen, Subsistence Coordinator, at (907) 822-7284 or via email at amber_cohen@nps.gov, or Eva Patton, Federal Advisory Committee Group Federal Officer, at (907) 644-3601 or via email at eva_patton@nps.gov.

The Gates of the Arctic National Park SRC will meet via teleconference from 9:30 a.m. until business is completed on Tuesday, February 17, 2026. Participants must call the NPS office at (907) 455-0639 prior to the meeting to receive teleconference/videoconference passcode information. For more detailed information regarding this meeting or if you are interested in applying for SRC membership, contact Designated Federal Officer Mark Dowdle, Superintendent, at (907) 455-0614 or via email at mark_dowdle@nps.gov, or Marcy Okada, Subsistence Coordinator, at (907) 455-0639 or via email at marcy_okada@nps.gov, or Eva Patton, Federal Advisory Committee Group Federal Officer, at (907) 644-3601 or via email at eva_patton@nps.gov.

SUPPLEMENTARY INFORMATION: The NPS is holding meetings pursuant to the Federal Advisory Committee Act (5 U.S.C. Ch. 10). The NPS SRC program is authorized under title VIII, section 808 of the Alaska National Interest Lands Conservation Act (16 U.S.C. 3118).

SRC meetings are open to the public and will have time allocated for public testimony. The public is welcome to present written or oral comments to the SRC. SRC meetings will be recorded, and meeting minutes will be available within 90 days of the completion of the meeting.

Meeting Accessibility/Special Accommodations: The meetings are open to the public. Please make requests in advance for sign language interpreter services, assistive listening devices, or other reasonable accommodations. We ask that you contact the person listed in the ADDRESSES section of this notice at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Purpose of the Meeting: The agenda may change to accommodate SRC business. The proposed meeting agenda for each meeting includes the following:

1. Call to Order—Confirm Quorum

2. Welcome and Introduction

3. Review and Adoption of Agenda

4. Presentation on Federal Register Notice for Programmatic Review

5. Discussion on topics of focus for the Secretarial review

6. Identification of possible other topics relevant for the Programmatic Review

7. Public and Other Agency Comments

8. Adjourn Meeting

SRC meeting dates may change based on inclement weather or exceptional circumstances, including public health advisories or mandates. If meeting dates are changed, the Superintendent will issue a press release and use local newspapers and/or radio stations to announce the rescheduled meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Ch. 10.

Alma Ripps,
Chief, Office of Policy.

[FR Doc. 2026-00849 Filed 1-15-26; 8:45 am]

BILLING CODE 4312-52-P